DEPARTMENT OF HEALTH AND HUMAN SERVICES

National Institutes of Health

Center for Scientific Review; Amended Notice of Meeting

Notice is hereby given of a change in the meeting of the Kidney, Nutrition, Obesity and Diabetes Study Section, October 10, 2013, 8:00 a.m. to October 11, 2013, 12:30 p.m., Melrose Hotel, 2430 Pennsylvania Ave. NW., Washington, DC 20037 which was published in the Federal Register on September 17, 2013, 78 FR 180, Pgs. 57169-57170.

The meeting will be held at National Institutes of Health, 6701 Rockledge Dr., Bethesda, MD 20892. The meeting will start on December 5, 2013 at 09:30 a.m. and end on December 6, 2013 at 1:00 p.m. The meeting is closed to the public.

Dated: October 25, 2013.
Anna Snouffer,
Deputy Director, Office of Federal Advisory Committee Policy.

[FR Doc. 2013-25886 Filed 10-30-13; 8:45 am]

BILLING CODE 4140-01-P